FEDERAL MARITIME COMMISSION

Ocean Transportation Intermediary License Reissuances

The Commission gives notice that the following Ocean Transportation Intermediary license has been reissued pursuant to section 19 of the Shipping Act of 1984 (46 U.S.C. 40101) effective on the date shown.

License No.: 020252F.

Name: Sobe Enterprises, Inc.

Address: 150 NW 176th Street, Unit C, Miami Gardens, FL 33169.

Date Reissued: November 15, 2012.

Vern W. Hill,
Director, Bureau of Certification and Licensing.

[FR Doc. 2013-02675 Filed 2-5-13; 8:45 am]

BILLING CODE 6730-01-P